NUCLEAR REGULATORY COMMISSION

[Docket No. 72-03; NRC-2018-0103]

Duke Energy Progress, Inc., H.B. Robinson Steam Electric Plant, Unit No. 2, Independent Spent Fuel Storage Installation

AGENCY: Nuclear Regulatory Commission.

ACTION: License amendment; issuance.

SUMMARY: The U.S. Nuclear Regulatory Commission (NRC) is issuing an amendment to Materials License No. SNM-2502. The license authorizes Duke Energy Progress, LLC to receive, possess, store, and transfer spent nuclear fuel and associated radioactive materials. The amendment changes the name of the licensee from Duke Energy Progress, Inc. to Duke Energy Progress, LLC for the H. B. Robinson Steam Electric Plant, Unit No. 2 (Robinson Unit No. 2), Independent Spent Fuel Storage Installation.

DATES: June 4, 2018.

ADDRESSES: Please refer to Docket ID NRC-2018-0103 when contacting the NRC about the availability of information regarding this document. You may obtain publicly-available information related to this document using any of the following methods:

• Federal Rulemaking Website: Go to http://www.regulations.gov and search for Docket ID NRC-2018-0103. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The Robinson Unit No. 2 License Amendment Request No. 3 package is available in ADAMS under Accession No. ML18110A812.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555-0001, telephone: 301-415-0262; email: John-Chau.Nguyen@nrc.gov.

SUPPLEMENTARY INFORMATION: The NRC has issued Amendment No. 3 to Materials License No. SNM-2502 held by Duke Energy Progress, LLC for the Robinson Unit No. 2, Independent Spent Fuel Storage Installation, which changes the corporate name of the licensee from Duke Energy Progress, Inc. to Duke Energy Progress, LLC. The application dated July 10, 2017 (ADAMS Accession No. ML17192A078), submitted in accordance with section 72.56 of title 10 of the Code of Federal Regulations (10 CFR), included adequate justification for the proposed changes.

Pursuant to 10 CFR 72.46, the NRC docketed, approved, and issued Amendment No. 3 for the receipt, possession, transfer, and storage of spent fuel at the Robinson Unit No. 2, Independent Spent Fuel Storage Installation. Amendment No. 3 is effective as of the date of issuance. Amendment No. 3 complies with the standards and requirements of the Atomic Energy Act of 1954, as amended (the Act), and the Commission's rules and regulations. The Commission has made appropriate findings, as required by the Act and the Commission's rules and regulations in 10 CFR chapter 1, which are set forth in Amendment No. 3. The issuance of Amendment No. 3 satisfies the criteria specified in 10 CFR 51.22(c)(11) for a categorical exclusion. Thus, the preparation of an environmental assessment or an environmental impact statement is not required.

In accordance with 10 CFR 72.46(b)(2), the NRC has determined that Amendment No. 3 does not present a genuine issue as to whether public health and safety will be significantly affected. Therefore, the publication of a notice of proposed action and an opportunity for hearing or a notice of hearing is not required. Notice is hereby given of the right of interested persons to request a hearing on whether the action should be rescinded or modified in accordance with the procedures found in 10 CFR 2.309.

Dated at Rockville, Maryland, this 30th day of May 2018.
For the Nuclear Regulatory Commission.
John McKirgan,
Chief, Spent Fuel Licensing Branch, Division of Spent Fuel Management, Office of Nuclear Material Safety and Safeguards.

[FR Doc. 2018-11882 Filed 6-1-18; 8:45 am]

BILLING CODE 7590-01-P